DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Contingent Valuation/Choice Experiment Surveys for Hurricane Sandy Restoration Efforts in Forsythe National Wildlife Refuge in New Jersey and Jamaica Bay, NY.

OMB Control Number: 0648-xxxx.

Form Number(s): None.

Type of Request: Regular (request for a new information collection).

Number of Respondents: 1,035.

Average Hours per Response: Forsyth Refuge survey, 20 minutes; Jamaica Bay Survey, 25 minutes.

Burden Hours: 389.

Needs and Uses: This request is for a new information collection.

Superstorm Sandy caused significant damage to the New York and New Jersey coast. There are numerous ongoing and planned projects to repair the damage caused by the storm. The Disaster Relief Appropriations Act of 2012 provided NOAA with funding to assess the ecosystem service values associated with restoration options being considered in the wake of Sandy. Two geographic areas that were particularly impacted by the Storm were the Forsythe National Wildlife Refuge in New Jersey and Jamaica Bay in New York. Under this collection effort, the NOAA Office for Coastal Management will implement a contingent valuation survey to assess the value of the ecosystem services that will be generated by restoration projects being implemented in both areas. Data will be collected from individuals who reside in the New York and New Jersey areas. NOAA will implement two separate surveys: One for each geographic area.

There are a number of restoration projects that are ongoing in the Forsythe National Wildlife Refuge and in Jamaica Bay. After reviewing the scope and focus of many of those restoration projects, NOAA has decided to focus on two specific projects. For the Forsythe National Wildlife Refuge, NOAA will focus on the work being done under a $15 million project being conducted by the U.S. Fish and Wildlife Service. The Forsythe project will focus on restoring and enhancing the salt marsh at the Refuge to act as a natural protection from storms and to act as a habitat for wildlife. In assessing ecosystem service benefits for the Forsythe restoration work, NOAA will focus on the value of the salt marsh for storm protection, habitat, and recreation, as well as other possible ecosystem services.

The Jamaica Bay area has a number of planned and ongoing projects. NOAA has decided to focus on work being conducted at Spring Creek Park on the northern point of Jamaica Bay. The restoration work at the park will involve improving habitat and storm and flood protection. NOAA will focus on the associated ecosystem services from habitat improvements and the added storm and flood protection.

NOAA is currently contacting and working with partners and stakeholders at each site to ensure the relevancy of this work.

Affected Public: Individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: January 16, 2015.
Glenna Mickelson,
Management Analyst, Office of the Chief Information Officer.

[FR Doc. 2015-01080 Filed 1-22-15; 8:45 am]

BILLING CODE 3510-JS-P